DEPARTMENT OF HEALTH AND HUMAN SERVICES

National Institutes of Health

National Cancer Institute; Amended Notice of Meeting

Notice is hereby given of a change in the meeting of the National Cancer Advisory Board, November 30, 2009, 6:30 p.m. to December 2, 2009, 12 p.m., National Institutes of Health, Building 31, 31 Center Drive, 10, Bethesda, MD, 20892 which was published in the Federal Register on November 4, 2009, 74FR57182.

This Federal Register Notice is being amended to reflect the change in the start and end times of the closed session on December 1, 2009 to 3:45 p.m. to 4:30 p.m.

Dated: November 19, 2009.
Jennifer Spaeth,
Director, Office of Federal Advisory Committee Policy.

[FR Doc. E9-28279 Filed 11-24-09; 8:45 am]

BILLING CODE 4140-01-P